DEPARTMENT OF ENERGY

Federal Energy Regulatory Commission

[Project No. 190-105]

Moon Lake Electric Association, Inc.; Notice of Application Ready for Environmental Analysis and Soliciting Comments, Recommendations, Terms and Conditions, and Prescriptions

Take notice that the following hydroelectric application has been filed with the Commission and is available for public inspection.

a. Type of Application: Minor, new license.

b. Project No.: P-190-105.

c. Date filed: January 31, 2017.

d. Applicant: Moon Lake Electric Association, Inc.

e. Name of Project: Uintah Hydroelectric Project.

f. Location: The project is located near the Town of Neola, Duchesne County, Utah and diverts water from primarily the Uinta River as well as Big Springs Creek and Pole Creek. The project is located almost entirely on the tribal lands of the Uintah and Ouray Native American Reservation (105.1 acres) and federal lands managed by Ashley National Forest (12.9 acres).

g. Filed Pursuant to: Federal Power Act 16 U.S.C. 791 (a)-825(r).

h. Applicant Contact: Patrick Corun, Engineering Manager, Moon Lake Electric Association, Inc., 800 West U.S. Hwy 40, Roosevelt, Utah 84066, (435) 722-5406, pcorun@mleainc.com.

i. FERC Contact: Quinn Emmering, (202) 502-6382, quinn.emmering@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-190-105.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The Uintah Hydroelectric Project operates as a run-of-river facility delivering water to the project facilities from primarily the Uinta River as well as Big Springs Creek and Pole Creek. Existing project facilities include: (1) A stop-log diversion structure that conveys flows from Big Springs Creek and a non-project canal to a 916-foot-long, 28-inch-diameter, steel pipeline that connects to the point of diversion on the Uinta River; (2) an 80-foot-long, 4-foot-wide, 3-foot-high overflow-type concrete diversion structure with a 10-foot-high, 6.5-foot-wide steel slide gate on the Uinta River; (3) a concrete structure with manual slide gates for dewatering the main supply canal and returning water to the Uinta River immediately downstream of the Uinta diversion; (4) an emergency slide gate about midway along the main supply canal; (5) a 16-foot-wide, 8-foot-deep, 25,614-foot-long, clay-lined main supply canal which conveys water from Big Springs Creek and the Uinta River; (6) a stop-log diversion structure, with non-functional control gates, which diverts water from Pole Creek; (7) a 6-foot-wide, 4-foot-deep, 6,200-foot-long Pole Creek canal that collects water from the Pole Creek diversion; (8) an 86-inch-wide, 80-inch-long, 43-inch-high transition bay and a 140-foot-long, 14-inch-diameter steel penstock collects water from the Pole Creek canal; (9) a 23-foot by 13-foot concrete forebay structure containing trashracks with 2.5-inch spacing, a headgate that is located at the termination of the main supply canal and the Pole Creek penstock, and an overflow channel; (10) a single 5,238-foot-long, 36-inch-diameter polyurethane and steel penstock which delivers water to a concrete powerhouse with two Pelton turbines driving two 600-kilowatt generators; (11) a 600-foot-long tailrace; (12) a substation immediately adjacent to the powerhouse; (13) a 8.5-mile-long, 24.9-kilovolt single wood pole distribution line; and (14) appurtenant facilities.

The estimated average annual generation is about 6,073 megawatt-hours. Moon Lake proposes to modify the project boundary to remove the currently licensed substation and 8.5-mile-long transmission line.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

All filings must: (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

o. Procedural schedule: The application will be processed according to the following schedule. Revisions to the schedule will be made as appropriate.

Deadline for Filing Comments, Recommendations and Agency Terms and Conditions/Prescriptions May 12, 2020

Licensee's Reply to REA Comments June 26, 2020

Commission issues draft EA December 2020

Comments on draft EA January 2020

Commission issues final EA April 2021

Dated: March 13, 2020.
Kimberly D. Bose,
Secretary.

[FR Doc. 2020-05728 Filed 3-18-20; 8:45 am]

BILLING CODE 6717-01-P